FEDERAL COMMUNICATIONS COMMISSION

47 CFR Part 69

[WC Docket No. 05-25; RM-10593; DA 14-1327]

Special Access Proceeding; Data Collection Amended to Reflect OMB Approval; Filing Deadline Announced; Petitions for Reconsideration Addressed

AGENCY: Federal Communications Commission.

ACTION: Final rule.

SUMMARY: In this Order on Reconsideration, the Wireline Competition Bureau (Bureau) amends the special access data collection, outlined in the Commission's Data Collection Order to reflect the approval received from the Office of Management and Budget (OMB) pursuant to the Paperwork Reduction Act of 1995 (PRA), Public Law 104-13. The Commission also announces that responses to the data collection are due by December 15, 2014 and addresses two petitions seeking reconsideration of the Data Collection Implementation Order released by the Bureau that clarified and amended the collection. These actions allow the Commission to move forward with the collection of data for a comprehensive analysis of the special access market. This collection is vital to the Commission's efforts to reform the rules applicable to the provision of special access services by incumbent local exchange carriers (ILECs) in areas subject to price cap regulation.

DATES: Effective October 27, 2014. On August 15, 2014, the Commission obtained OMB approval for the data collection under OMB Control No. 3060-1197. In this document, WC Docket No. 05-25; RM-10593; DA 14-1327, the Commission amends the collection to reflect the approval received from OMB and announces that responses to the collection are due by December 15, 2014.

FOR FURTHER INFORMATION CONTACT: Christopher Koves, Wireline Competition Bureau, Pricing Policy Division, at (202) 418-8209 or (202) 418-0484 (tty), or via email at Christopher.koves@fcc.gov.

SUPPLEMENTARY INFORMATION: This is a summary of the Commission's Order on Reconsideration, DA 14-1327, adopted and released on September 15, 2014. Appendix A contains definitions and the information requested in the data collection. Appendix B contains the Supplemental Final Regulatory Flexibility Analysis. The full text of this document is also available for public inspection during regular business hours in the Commission's Reference Center, 445 12th Street SW., Room CY-A257, Washington, DC 20554. The complete text may be purchased from Best Copy and Printing, Inc., 445 12th Street SW., Room CY-B402, Washington, DC 20554. To request alternate formats for persons with disabilities (e.g. Braille, large print, electronic files, audio format, etc.) or reasonable accommodations for filing comments (e.g. accessible format documents, sign language interpreters, CARTS, etc.), send an email to fcc504@fcc.gov or call the Commission's Consumer and Governmental Affairs Bureau at (202) 418-0530 (voice) or (202) 418-0432 (TTY).

Background

Special access, also referred to as Dedicated Service, encompasses dedicated transmission services for voice and data traffic that do not use local switches. This service is used by businesses and competitive providers to connect customer locations and networks with dedicated, high-capacity links. As recognized in the Commission's National Broadband Plan, “[s]pecial access circuits play a significant role in the availability and pricing of broadband service.”

In August 2012, the Commission suspended further automatic grants of special access pricing flexibility to ILECs, determining based on “significant evidence that these rules, adopted in 1999, are not working as predicted, and widespread agreement across industry sectors that these rules fail to accurately reflect competition in today's special access markets.” FCC 12-92, 77 FR 57504, Sept. 18, 2012. On December 18, 2012, the Commission released the Data Collection Order, outlining a data collection for an analysis of the special access market. FCC 12-153, 78 FR 2572, Jan. 11, 2013. Services covered by the collection include traditional special access service (including DS1s and DS3s), Packet-Based Dedicated Service (PBDS) such as Ethernet, and Best Efforts Business Broadband Internet Access Service to ensure a “clear picture of all competition in the marketplace.” Those required to respond to the data collection include Providers and Purchasers of special access services and certain entities providing Best Efforts Business Broadband Internet Access Service. The collection required data on a nationwide basis for areas where the ILEC is subject to price cap regulation (i.e., price cap areas) with the majority of data from calendar years 2010 and 2012. The Commission provided an “initial version” of the questions and definitions for the collection as an appendix to the order.

In the Special Access FNPRM, the Commission proposed to conduct a one-time, multi-faceted market analysis. FCC 12-153, 78 FR 2600, Jan. 11, 2013. The analysis would evaluate “how the intensity of competition (or lack thereof), whether actual or potential, affects prices, controlling for all other factors that affect prices” and would provide an evidentiary record for reforming the Commission's special access rules applicable to ILECs. The analysis would evaluate market structure and include, to the extent practicable, “econometrically sound panel regressions . . . of the prices for special access on characteristics such as (1) the number of facilities-based competitors (both actual and potential); (2) the availability of, pricing of, and demand for best efforts business broadband Internet access services; (3) the characteristics of the purchased service; and (4) other factors that influence the pricing decisions of special access providers, including cost determinants (e.g., density of sales) and factors that deliver economies of scale and scope (e.g., level of sales).” Because of the various factors that may influence competition at a particular location, the Commission designed the collection to obtain detailed data at the location level. The Commission also proposed to analyze the information from Purchasers, as well as Providers, to assess the reasonableness of terms and conditions offered by ILECs for special access service.

The Commission delegated authority to the Bureau to implement the data collection. The Commission's delegation gives the Bureau authority to: “(a) draft instructions to the data collection and modify the data collection based on public feedback; (b) amend the data collection based on feedback received through the PRA process; (c) make corrections to the data collection to ensure it reflects the Commission's needs as expressed in [the Data Collection Order]; . . . (d) issue Bureau-level orders and Public Notices specifying the production of specific types of data, specifying a collection mechanism (including necessary forms or formats), and set[] deadlines for response to ensure that data collections are complied with in a timely manner; and (e) take other such actions as are necessary to implement [the Data Collection Order] . . . consistent with [its] terms . . . .” The Commission further stated that “[t]o the extent the Bureau cannot obtain Office of Management and Budget approval for some portion of the data collection, we direct the Bureau to proceed with the remainder of the collection.”

On September 18, 2013, the Bureau released the Data Collection Implementation Order clarifying the scope of the collection, providing instructions on how to respond to the data collection questions, and providing a list of all modifications and amendments to the data collection questions and definitions. DA 13-1909, 78 FR 67053, Nov. 8, 2013. These actions were based on feedback received from potential respondents, including the PRA comments filed with the Commission during the 60-day public comment period, and the Bureau's further internal review. The Bureau subsequently submitted the collection to OMB for review as required by the PRA.

In December 2013, the Small Purchasers Coalition (Coalition) and the Blooston Private Microwave Licensees (Blooston) filed petitions for reconsideration of the Data Collection Implementation Order. The Coalition urged the Bureau to exempt small purchasers from the collection or to alternatively: (1) Limit the collection to 2013 data; (2) exempt self-provisioned special access facilities from the collection; (3) exempt providers of special access to affiliated entities from the collection; and (4) narrow the scope of quantitative data from Purchasers. MTPCS, LLC d/b/a Cellular One (MTPCS) filed comments in support, and the Independent Telephone and Telecommunications Alliance (ITTA) opposed the request. Blooston, asked for reconsideration of the Bureau's decision not to categorically exclude entities that use fixed point-to-point microwave services on a non-common carrier basis from the definition of Purchasers. The Utilities Telecom Council (UTC) filed comments in support and asked the Commission to also exclude non-common carrier licensees in the Wireless Broadband Services frequency band, 3650-3700 MHz, that purchase Dedicated Service.

After receiving comments from interested parties and completing its review, OMB approved the collection subject to the following modifications on August 15, 2014:

• Where data sought for 2010 and/or 2012, only require the reporting of data for a single year, and use the most recent year (i.e., calendar year 2013).

• Revise definition of Purchasers to exclude entities from the collection that purchased less than $5 million in Dedicated Services in 2013 (in areas where the ILEC is subject to price cap regulation).

• Do not require Purchasers to answer Questions II.E.4-8, II.E.14, II.F.3-7, and II.F.13 (which involve the reporting of Dedicated Service expenditures by various categories and identifying tariffs used to purchase service). Purchasers can provide information in response to such questions on a voluntary basis.

• Require the reporting of revenues and expenditures broken down by bandwidth as set forth in Questions II.A.16, II.B.9, II.E.7-8, and II.F.6-7, only if respondent keeps such information in the normal course of business. Otherwise, respondent can provide information on a voluntary basis.

• Only require the reporting of CLLI code for ILEC wire center in response to Question II.E.2.d if kept in the normal course of business. Otherwise, respondent can provide information on a voluntary basis.

• In Question II.A.11 directed at Competitive Providers, only require responses where the respondent was selected as the winning bidder on a Request for Proposal (RFP). Respondents can provide information on unsuccessful RFP bids and business rules relied upon to submit bids on a voluntary basis.

• In Questions II.A.4.c and II.B.3.c regarding the reporting of Locations with Connections, Providers are only required to provide the geocode for the Location if the respondent keeps such information in the normal course of business. Respondent can, however, provide such information on a voluntary basis.

• In Question II.A.5 directed at Competitive Providers regarding fiber maps and the reporting of Nodes used to interconnect with third party networks, do not require cable companies to show the feeder links to locations, only their interoffice transport fiber network. In addition, cable companies are only required to report their headends (i.e., Nodes) that they have upgraded to provide metro Ethernet service, or its functional equivalent.

Discussion

In this Order on Reconsideration, we amended the collection to reflect the changes in the conditional approval received from OMB. In so doing, we partially granted and partially denied the Coalition and Blooston petitions. Amending the collection is consistent with our delegated authority and will allow the Commission to move forward with the remainder of the collection for an analysis of the special access market. Specifically, we have revised the questionnaire and instructions by: (1) Replacing references to the collection of 2010 and 2012 data with the collection of 2013 data; (2) revising the definition of Purchasers as directed by OMB; (3) indicating those questions where responses are optional and not required or where information is required only if kept in the normal course of business by the respondent; and (4) adding footnotes to clarify which information is required. These changes will reduce the overall estimated hour reporting burden of the collection on industry by more than forty percent.

Collecting 2013 Data. OMB's conditional approval necessitated changing the years of the data collected from two years of data (mainly 2010 and 2012) to a single year, and changing that to more recent (2013) data. This amendment allows the Commission to obtain data from the most recent calendar year as originally intended in the Data Collection Order. This action also addresses the Coalition's concerns over the reporting burden associated with the collection of 2010 data, and its request that the Commission just collect 2013 data. It also effectively grants the Coalition's request to “narrow the scope of quantitative data to be provided by purchasers of special access.” While ITTA opposed the Coalition Petition for seeking reduced reporting requirements for certain classes of respondents, this amendment applies equally to all types of respondents and does not benefit a particular group.

Other Issues Raised by Petitions for Reconsideration. The changes required by OMB's conditional approval largely addressed the petitions filed by the Coalition and Blooston. For example, the Coalition sought a blanket exemption for Purchasers with (1) less than $5 million annually in special access facilities in price cap areas or (2) 200 or fewer special access facilities. Blooston similarly sought an exemption from the collection for Part 101 point-to-point, non-common carrier microwave licensees that “are simply consumers of dedicated special access services.” By revising the definition of Purchasers to exclude entities spending less than $5 million on Dedicated Services in 2013 in price cap areas, we significantly reduced the estimated pool of respondents that are Purchasers, and therefore, likely significantly reduced the number of entities represented by the Coalition and Blooston that are required to respond to the collection. Moreover, in addition to changing the year of the data collected to 2013, almost all but a handful of the questions for Purchasers are now optional, further limiting the amount of data obtained on a mandatory basis, and thus further decreasing the estimated reporting burden for Purchasers.

To the extent petitioners and commenters sought additional exemptions or reductions in the reporting requirements, we denied their requests. The changes made pursuant to OMB's conditional approval provide ample relief by significantly decreasing the overall estimated reporting burden of the collection. Additional modifications would further limit the amount of data collected on purchases at the retail level. And there is evidence in the record that wholesale and retail customers face differing competitive options and that backhaul purchases by mobile wireless providers may represent a unique product market. The Commission therefore needs the remaining data sought on a mandatory basis from customers to analyze the retail, as well as the wholesale, market.

Responses Due by December 15, 2014. The deadline for responding to the data collection is ninety days from the release of this order, i.e., December 15, 2014. The Commission first provided notice that a collection was forthcoming in its August 2012 Pricing Flexibility Suspension Order. The Commission then provided respondents with an “initial version” of the questions in its Data Collection Order and clarifications and instructions were provided by the Bureau in September 2013. The eight month review process by OMB provided even more time for respondents to assess the collection requirements, identify the necessary information, and prepare for responding. Throughout this implementation process, the Commission staff has encouraged parties not to wait until the announcement of the filing deadline to start preparing for a response. We understand that any efforts to date by respondents to gather 2010 and/or 2012 data are supplanted by the change to using 2013 data, but collecting the most recent calendar year will likely make it easier for respondents to identify the necessary information over the next ninety days and eliminate the burdens associated with reporting data from earlier years. We therefore find a ninety-day window for filing responses is appropriate.

Procedural Matters

Responding to the Data Collection. In addition to the attached instructions discussing the data specifications, we will post additional instructions on the submission process on the Commission's Web site. The Bureau will separately announce the launch of an electronic interface for the submission of information. Submissions will involve the uploading of documents in response to various questions and interrogatories and the electronic delivery of data. We will provide a database container file for submitting data that will include validation scripts to verify that the filer is providing the data in the appropriate format.

Confidential Information. The data collection seeks information on facilities, billing, revenue, and expenditures considered confidential by businesses. The Bureau will release separately a Protective Order outlining the procedures for designating and accessing information deemed confidential and highly confidential.

Paperwork Reduction Act Analysis. This Order on Reconsideration further implements the information collection requirement adopted by the Commission in the Data Collection Order. OMB has approved the collection pursuant to the PRA, Public Law 104-13, and the actions taken here are consistent with, and reflect, OMB's approval. Accordingly, this Order on Reconsideration does not result in any new or substantive or material modification to a collection that would require additional OMB approval. Consistent with the Data Collection Order, the information collection requirement will become effective upon publication of a notice in the Federal Register announcing OMB's approval and an effective date of the requirements.

Supplemental Final Regulatory Flexibility Analysis. As required by the Regulatory Flexibility Act of 1980, as amended, the Bureau has prepared a Supplemental Final Regulatory Flexibility Analysis (Supplemental FRFA) as set forth in Appendix B, addressing the actions taken in this Order on Reconsideration.

Congressional Review Act (CRA). The Commission will send a copy of this Order on Reconsideration to Congress and the Government Accountability Office pursuant to the CRA and supplement that filing with a copy of this Order on Reconsideration.

Ex Parte Presentations. This is a permit-but-disclose proceeding and subject to the requirements of section 1.1206(b) of the rules. Persons making oral ex parte presentations are reminded that memoranda summarizing the presentations must contain a summary of the substance of the presentation and not merely a listing of the subjects discussed. More than a one-sentence or two-sentence description of the views and arguments presented is generally required.

APPENDIX A

Mandatory Data Collection

September 2014

Approved by OMB 3060-1197

I. Definitions

The following definitions apply for purposes of this collection only. They are not intended to set or modify precedent outside the context of this collection.

Affiliated Company means a company, partnership, corporation, limited liability company, or other business entity that is affiliated with an entity that provides and/or purchases Dedicated Service. Two entities are affiliated if one of them, or an entity that controls one of them, directly or indirectly holds a greater than 10 percent ownership interest in, or controls, the other one.

Best Efforts Business Broadband Internet Access Service means a best efforts Internet access data service with a minimum advertised bandwidth connection of at least 1.5 megabits per second (Mbps) in both directions (upstream/downstream) that is marketed to enterprise customers (including small, medium, and large businesses). For purposes of this data collection, Best Efforts Business Broadband Internet Access Services do not include mobile wireless services, as that term is used in the 16th Annual Mobile Wireless Competition Report.

Circuit-Based Dedicated Service (CBDS) means a Dedicated Service that is circuit-based. Examples of CBDS include time-division multiplexing-based, DS1 and DS3 services.

Competitive Provider means a competitive local exchange carrier (CLEC), interexchange carrier, cable operator, wireless provider or any other entity that is subject to the Commission's jurisdiction under the Communications Act of 1934, as amended, and either provides a Dedicated Service or provides a Connection over which a Dedicated Service could be provided. A Competitive Provider does not include an ILEC operating within its incumbent service territory.

Connection means a wired “line” or wireless “channel” that provides a dedicated communication path between a Location and the first Node on a Provider's network. Multiple dedicated communication paths serving one or more End Users at the same Location should be counted as a single Connection. A Connection may be a UNE, including an Unbundled Copper Loop if modified to provide a Dedicated Service. A Connection must have the capability of being used to provide one or more Dedicated Services; however, a Connection can be used to provide other services as well. For example, a dedicated communication path that is currently being used to provide a mass market broadband service but has the capability to provide a Dedicated Service is considered a Connection for the purpose of this data collection.

Contract-Based Tariff means a Tariff, other than a Tariff Plan, that is based on a service contract entered into between a customer and an ILEC which has obtained permission to offer contract-based tariff services pursuant to 47 CFR § 69.701 et seq. of the Commission's pricing flexibility rules or a comparable tariffed intrastate service contract between a customer and an ILEC.

Dedicated Service transports data between two or more designated points, e.g., between an End User's premises and a point-of-presence, between the central office of a local exchange carrier (LEC) and a point-of-presence, or between two End User premises, at a rate of at least 1.5 Mbps in both directions (upstream/downstream) with prescribed performance requirements that include bandwidth-, latency-, or error-rate guarantees or other parameters that define delivery under a Tariff or in a service-level agreement. Dedicated Service includes, but is not limited to, CBDS and PBDS. For the purpose of this data collection, Dedicated Service does not include “best effort” services, e.g., mass market broadband services such as DSL and cable modem broadband access.

Disconnection means the process by which a Provider, per a customer request, terminates billing on one or more of a customer's Dedicated Service circuits.

DS1 and DS3, except where specified, refer to DS1s and DS3s that are not UNEs. DS1s and DS3s are Dedicated Services.

End User means a business, institutional, or government entity that purchases a communications service for its own purposes and does not resell such service. A mobile wireless service provider is considered an End User when it purchases communications services to make connections within its own network, e.g., backhaul to a cell site.

End User Channel Termination means, as defined in 47 CFR § 69.703(a)(2), a dedicated channel connecting a LEC end office and a customer premises, offered for purposes of carrying special access traffic.

Incumbent Local Exchange Carrier (ILEC) means, for the purpose of this data collection, a LEC that provides a Dedicated Service in study areas where it is subject to price cap regulation under sections 61.41-61.49 of the Commission's rules, 47 CFR §§ 61.41-61.49.

Indefeasible Right of Use (IRU) means an indefeasible long-term leasehold interest for a minimum total duration of ten years that gives the grantee the right to access and exclusively use specified strands of fiber or allocated bandwidth to provide a service as determined by the grantee. An IRU confers on the grantee substantially all of the risks and rewards of ownership. IRUs typically include the following elements: (i) payment of a substantial fee up front to enter into the IRU contract; (ii) conveyance of tax obligations commensurate with the risks and rewards of ownership to the grantee (e.g. as opposed to the lesser tax burdens associated with other forms of leases); (iii) terms for payment to the grantor for ancillary services, such as maintenance fees; (iv) all additional rights and interests necessary to enable the IRU to be used by the grantee in the manner agreed to; and (v) no unreasonable limit on the right of the grantee to use the asset as it wishes (e.g., the grantee shall be permitted to splice into the IRU fiber, though such splice points must be mutually agreed upon by grantor and the grantee of the IRU).

Location means a building, other man-made structure, a cell site on a building, a free-standing cell site, or a cell site on some other man-made structure where the End User is connected. A Node is not a Location. For the purposes of this data collection, cell sites are to be treated as Locations and not as Nodes.

Metropolitan Statistical Area (MSA) is a geographic area as defined by 47 CFR §§ 22.909(a), 69.703(b).

Node is an aggregation point, a branch point, or a point of interconnection on a Provider's network, including a point of interconnection to other Provider networks. Examples include LEC central offices, remote terminal locations, splice points (including, for example, at manholes), controlled environmental vaults, cable system headends, cable modem termination system (CMTS) locations, and facility hubs.

Non-MSA is the portion of an ILEC's study area that falls outside the boundaries of an MSA.

Non-Rate Benefit means a benefit to the customer other than a discount on the One Month Term Only Rate, e.g., a credit towards penalties or non-recurring charges or the ability to move circuits without incurring a penalty.

One Month Term Only Rate means, for purposes of this data collection, the non-discounted monthly recurring tariffed rate for DS1, DS3 and/or PBDS services.

Packet-Based Dedicated Service (PBDS) means a Dedicated Service that is packet-based. Examples of PBDS include Multi-Protocol Label Switched (MPLS) services; permanent virtual circuits, virtual private lines and similar services; ATM and Frame Relay service; (Gigabit) Ethernet Services and Metro Ethernet Virtual Connections; and Virtual Private Networks (VPN). PBDS includes those categories of packet-based and optical transmission services for which the Commission has granted forbearance relief from dominant carrier regulation.

Phase I Pricing Flexibility means regulatory relief for the pricing of End User Channel Terminations pursuant to 47 CFR §§ 69.711(b), 69.727(a) of the Commission's rules.

Phase II Pricing Flexibility means regulatory relief for the pricing of End User Channel Terminations pursuant to 47 CFR §§ 69.711(c), 69.727(b) of the Commission's rules.

Prior Purchase-Based Commitment means a type of Volume Commitment where the commitment is based on either:

(i) A certain percentage or number of the customer's purchased in-service circuits or lines as measured at the time of making the Volume Commitment or measured during a period of time prior to making the Volume Commitment, e.g., based on the customer's billing records for the current month or prior month(s); or

(ii) a certain percentage or dollar amount of Revenues generated by the customer's purchases as measured at the time of making the Volume Commitment or during a period of time prior to making the Volume Commitment.

Providers collectively refers to both ILECs and Competitive Providers.

Purchasers means Competitive Providers and End Users that are subject to the Commission's jurisdiction under the Communications Act of 1934, as amended, and that purchased Dedicated Services of $5 million or more in 2013 in areas where the ILEC is subject to price cap regulation.

Revenues means intrastate and interstate billed amounts without any allowance for uncollectibles, commissions or settlements.

Tariff means an intrastate or interstate schedule of rates and regulations filed by common carriers. This term includes both Tariff Plans and Contract-Based Tariffs.

Tariff Plan means a Tariff, other than a Contract-Based Tariff, that provides a customer with either a discount from any One Month Term Only Rate for the purchase of DS1 and/or DS3 services or a Non-Rate Benefit that could be applied to these services.

Term Commitment means a commitment to purchase a Dedicated Service for a period of time, greater than a month, in exchange for a circuit-specific discount and/or a Non-Rate Benefit.

Transport Service means a dedicated circuit that connects a designated Competitive Provider's premises to the wire center that serves the Competitive Provider's customer. Such an arrangement may or may not include channel mileage. See 47 CFR 69.709(a).

Transport Provider means a Provider that supplies Transport Service.

Unbundled Copper Loop means a copper wire local loop provided by ILECs to requesting telecommunications carriers on a non-discriminatory basis pursuant to 47 CFR § 51.319(a)(1) that can be used by a Competitive Provider to provide a Dedicated Service, e.g., Ethernet over Copper. An Unbundled Copper Loop is typically a 2- or 4-wire loop that the ILEC has conditioned to remove intervening equipment such as bridge taps, load coils, repeaters, low pass filters, range extenders, etc. between a Location and the serving wire center to allow for the provision of advanced digital services by a Competitive Provider. These loops are commonly referred to as dry copper, bare copper, or xDSL-compatible loops. An Unbundled Copper Loop is a type of UNE.

Unbundled Network Element (UNE) means a local loop provided by an ILEC to a requesting telecommunications carrier on a non-discriminatory basis pursuant to 47 CFR § 51.319(a).

Upgrade means that a customer transitions one or more circuits to a higher capacity circuit.

Volume Commitment means a commitment to purchase a specified volume, e.g., a certain number of circuits or Revenues, to receive a discount on Dedicated Services and/or a Non-Rate Benefit.

II. Mandatory Data Collection Questions

A. Competitive Providers must respond to the following:

II.A.1. Indicate whether you are an Affiliated Company. If you are an Affiliated Company, you must identify the entities that provide and/or purchase Dedicated Service with which you have an affiliation (name/FRN).

II.A.2. Do you (i) own a Connection; (ii) lease a Connection from another entity under an IRU agreement; or (iii) obtain a Connection as a UNE from an ILEC to provide a Dedicated Service?

☐ Yes ☐ No

a. If yes, are any of these Connections to a Location within an area where the ILEC is subject to price cap regulation or within an area where the Commission has granted Phase I or Phase II Pricing Flexibility?

☐ Yes ☐ No

If you answered “no” to question II.A.2 or II.A.2.a, then you are not required to respond to the remaining questions in II.A or the questions in II.D.

Facilities Information

II.A.3. Provide the total number of Locations to which you had a Connection during 2013 where your company: (i) owned the Connection; (ii) leased the Connection from another entity under an IRU agreement; or (iii) obtained the Connection as a UNE from an ILEC in the form of DS1s, DS3s, or Unbundled Copper Loops to provide a Dedicated Service.

II.A.4. Provide the information requested below for each Location to which your company had a Connection during 2013 that you: (i) owned; (ii) leased from another entity under an IRU agreement; or (iii) obtained as a UNE from an ILEC to provide a Dedicated Service.

a. A unique ID for the Location;

b. The actual situs address for the Location (i.e., land where the building or cell site is located);

c. The geocode for the Location (i.e., latitude and longitude) if kept in the normal course of business, otherwise providing this information is optional;

d. The Location type (e.g., building, other man-made structure, cell site in or on a building, free-standing cell site, or a cell site on some other man-made structure like a water tower, billboard, etc.);

e. Whether the Connection provided to the location uses facilities leased from another entity under an IRU or obtained as a DS1/DS3 UNE or Unbundled Copper Loop, and in each case, the name of the lessor of the majority of the fiber strands and/or copper loop;

f. Whether any of the Connection to the Location was provided using fiber;

g. The total sold bandwidth of the Connection provided by you to the Location in Mbps;

h. The total bandwidth to the Location sold directly by you to an End User;

i. The total sold fixed wireless bandwidth provided by you to the Location; and

j. The total bandwidth sold by you to any cell sites at the Location.

k. The total bandwidth provided to you or an Affiliated Company for internal use.

II.A.5. Provide a map showing the fiber routes that you (a) own or (b) lease pursuant to an IRU agreement that constitute your network, including the fiber Connections to Locations. In addition, include the locations of all Nodes used to interconnect with third party networks, and the year that each Node went live.

II.A.6. We will provide you with a selected list of the Locations you reported in response to question II.A.4. For each identified Location, state the month and year that you first provided a Connection to that Location, whether you originally supplied the Location over a UNE, and if so, when (if at all) you switched to using a Connection that you own or lease as an IRU. If the Location was first served by your Connection on or before January 2008, and the date the Location was first served is unknown, then enter 00/0000.

II.A.7. For each ILEC wire center where your company is collocated, provide the actual situs address, the geocode, and the CLLI code.

II.A.8. Explain your business rule(s) used to determine whether to build a Connection to a particular Location. Provide underlying assumptions.

a. Describe the business rules and other factors that determine where you build your Connections. Examples of such rules/factors are minimum Term Commitments or minimum capacity commitments by the buyer; maximum build distances from the building to your core network; and/or number of competitors in the area. Include, also, any factors that would prevent you from building a Connection to an otherwise suitable Location. These could be factors that are under your control or those that are not.

b. Explain how, if at all, business density is incorporated into your business rule, and if so, how you measure business density.

c. In areas where your business rule has been most successful, explain why. Provide examples of geographic regions (if any) where you generally were or are able to successfully deploy Connections, and where you generally have experienced or currently experience serious difficulties in deploying Connections, and, if you are able to provide examples of both kind of regions, indicate what distinguishes these different regions.

II.A.9. Provide the following information:

a. The current situs address of your U.S. headquarters (i.e., the address of the land where the headquarters is located);

b. The year that this site became your headquarters;

c. Year established and situs address for any prior U.S. headquarters' location for your company, going as far back as 1995, if different from the headquarters' location listed in response to question II.A.9.a;

d. Going as far back as 1995, the date of acquisition and the situs address for the U.S. headquarters location of any entity that owned, or leased under an IRU agreement, Connections to five or more Locations in any MSA at the time you acquired the entity in a merger where you or your subsidiary was the surviving entity.

e. The name of any Affiliated Company that owned, or leased under an IRU agreement, Connections to five or more Locations in any MSA at the time you became affiliated with the Affiliated Company, going as far back as 1995.

f. For each Affiliated Company listed in response to question II.A.9.e, provide:

i. The year of affiliation;

ii. The situs address for each Affiliated Company's U.S. headquarters at the time of affiliation;

iii. The year that the Affiliated Company established the situs address listed in response to question II.A.9.f.i for its U.S. headquarters; and

iv. The year established and situs address for any prior U.S. headquarters' location designated by the Affiliated Company, going as far back as 1995 or the year of affiliation, whichever is most recent, if different from the headquarters' location listed in response to question II.A.9.f.i.

II.A.10. Provide data, maps, information, marketing materials, and/or documents identifying those geographic areas where you, or an Affiliated Company, advertised or marketed Dedicated Service over existing facilities, via leased facilities, or by building out new facilities as of December 31, 2013, or planned to advertise or market such services within twenty-four months of those dates.

II.A.11. Identify the five most recent Requests for Proposals (RFPs) for which you were selected as the winning bidder to provide each of the following: (a) Dedicated Services; (b) Best Efforts Business Broadband Internet Access Services; and, to the extent different from (a) or (b), (c) some other form of high-capacity data services to business customers. (The following remaining parts of this question are optional.) In addition, identify the five largest RFPs (by number of connections) for which you submitted an unsuccessful competitive bid in 2013 for each of (a) Dedicated Services; (b) Best Efforts Business Broadband Internet Access Services; and, to the extent different from (a) or (b), (c) some other form of high-capacity data services to business customers. For each RFP identified, provide a description of the RFP, the area covered, the price offered, and other competitively relevant information. Lastly, identify the business rules you rely upon to determine whether to submit a bid in response to an RFP.

Billing Information

II.A.12. For all Dedicated Services provided using transmission paths that you (i) own; (ii) lease from another entity under an IRU agreement; or (iii) obtain as a UNE from an ILEC to provide a Dedicated Service, submit the following information by circuit element by circuit billed for each month from January 1 to December 31 for the year 2013.

a. The closing date of the monthly billing cycle in mm/dd/yyyy format;

b. The name and six-digit 499-A Filer ID of the customer, where applicable, or other unique ID if customer does not have a 499-A Filer ID;

c. The Location ID from question II.A.4.a that is used to link the circuit elements to the terminating Location of the circuit (where applicable);

d. The circuit ID common to all elements purchased in common for a particular circuit;

e. The type of circuit (PBDS, or DS1 or DS3, etc.) and its bandwidth;

f. A unique billing code for the circuit element (see question II.A.14);

g. The number of units billed for this circuit element (note that the bandwidth of the circuit must not be entered here);

h. The dollar amount of non-recurring charges billed for the first unit of this circuit element;

i. The dollar amount of non-recurring charges billed for additional units of this circuit element (if different from the amount billed for the initial unit);

j. The monthly recurring dollar charge for the first unit of the circuit element billed;

k. The monthly recurring dollar charge for additional units (if different from the amount billed for the initial unit);

l. Per unit charge for the circuit element;

m. The total monthly dollar amount billed for the circuit element;

n. The Term Commitment associated with this circuit in months;

o. Indicate whether this circuit element is associated with a circuit that contributes to a Volume Commitment; and

p. The adjustment ID (or multiple adjustment IDs) linking this circuit element to the unique out-of-cycle billing adjustments in question II.A.13.a (below) if applicable.

II.A.13. For each adjustment, rebate, or true-up for billed Dedicated Services, provide the information requested below.

a. A unique ID number for the billing adjustment, rebate, or true-up (see question II.A.12.p above) and a unique ID number for the Tariff or contract from which the adjustment originates;

b. The beginning date of the time period covered by the adjustment or true-up;

c. The ending date of the time period covered by the adjustment or true-up;

d. The scope of the billing adjustment, i.e., whether the adjustment applies to a single circuit element on a single circuit, more than one circuit element on a single circuit, more than one circuit element across multiple circuits, or an overall adjustment that applies to every circuit element on every circuit purchased by the customer;

e. The dollar amount of the adjustment or true-up; and

f. A brief description of the billing adjustment, rebate or true-up, e.g., term discount, revenue target rebate, etc.

II.A.14. For each unique billing code, please provide the following information below.

a. The billing code for the circuit element;

b. Select the phrase that best describes the circuit element from the list. Names of some common rate elements are shown on the generalized circuit diagram below:

i. Channel mileage facility, channel mileage, interoffice channel mileage, special transport (a transmission path between two serving wire centers associated with customer designated locations; a serving wire center and an international or service area boundary point; a serving wire center and a hub, or similar type of connection);

ii. Channel mileage termination, special transport termination (the termination of channel mileage facility or similar transmission path);

iii. Channel termination, local distribution channel, special access line, customer port connection (Ethernet) (a transmission path between a customer designated location and the associated wire center);

iv. Clear channel capability (not shown) (an arrangement which allows a customer to transport, for example, 1.536 Mbps of information on a 1.544 Mbps line rate with no constraint on the quantity or sequence of one and zero bits);

v. Cross-connection (not shown) (semi-permanent switching between facilities, sometimes combined with multiplexing/demultiplexing);

vi. Multiplexing (not shown) (channelizing a facility into individual services requiring a lower capacity or bandwidth); and

vii. Class of service and/or committed information rate (not shown) (for Ethernet, the performance characteristics of the network and bandwidth available for a customer port connection).

c. If none of the possible entries describes the circuit element, enter a short description.

Revenues, Terms and Conditions Information

II.A.15. What were your Revenues from the sale of CBDS in 2013? Report Revenues in total, separately by DS1, DS3, and other CBDS sales, and separately by customer category, i.e., sales to Providers and End Users.

II.A.16. What were your Revenues from the sale of PBDS in 2013? Report Revenues in total, separately by customer category, i.e., sales to Providers and End Users. If kept in the normal course of business also report revenues separately by bandwidth for the following categories, otherwise providing this information is optional:

a. Less than or equal to 1.5 Mbps;

b. greater than 1.5, but less than or equal to 50 Mbps;

c. greater than 50, but less than or equal to 100 Mbps;

d. greater than 100, but less than or equal to 1 Gbps; and

e. greater than 1 Gbps.

II.A.17. What percentage of your Revenues from the sale of DS1, DS3, and PBDS services in 2013 were generated from an agreement or Tariff that contains a Prior Purchase-Based Commitment?

II.A.18. If you offer Dedicated Services pursuant to an agreement or Tariff that contains either a Prior Purchase-Based Commitment or a Non-Rate Benefit, then explain how, if at all, those sales are distinguishable from similarly structured ILEC sales of DS1s, DS3s, and/or PBDS.

II.A.19. Provide the business justification for the Term or Volume Commitments associated with any Tariff or agreement you offer or have in effect with a customer for the sale of Dedicated Services.

B. ILECs must respond to the following:

II.B.1. Indicate whether you are an Affiliated Company. If you are an Affiliated Company, you must identify the entities that provide and/or purchase Dedicated Service with which you have an affiliation (name/FRN).

Facilities Information

II.B.2. Provide the total number of Locations to which you provided a Connection in your company's study areas during 2013 where your company: (i) owned the Connection; or (ii) leased the Connection from another entity under an IRU agreement.

II.B.3. Provide the information requested below for each Location to which your company had a Connection during 2013 that you (i) owned or (ii) leased from another entity under an IRU agreement:

a. A unique ID for the Location;

b. The actual situs address for the Location (i.e., land where the building or cell site is located);

c. The geocode for the Location (i.e., latitude and longitude) if kept in the normal course of business, otherwise providing this information is optional;

d. The Location type (e.g., building, other man-made structure, cell site in or on a building, free-standing cell site, or a cell site on some other man-made structure like a water tower, billboard, etc.);

e. Whether any of the Connection to the Location was provided using fiber;

f. The total sold bandwidth of the Connection provided by you to the Location in Mbps;

g. The total bandwidth to the Location sold by you as UNEs in the form of DS1s and/or DS3s;

h. The total bandwidth to the Location sold directly by you to an End User;

i. The total sold fixed wireless bandwidth provided by you to the Location; and

j. The total bandwidth sold by you to any cell sites at the Location.

Billing Information

II.B.4. For all Dedicated Services provided using transmission paths that you (i) own or (ii) lease from another entity under an IRU agreement, submit the following information by circuit element by circuit billed for each month from January 1 to December 31 for the year 2013.

a. The closing date of the monthly billing cycle in mm/dd/yyyy format;

b. The name and six-digit 499A Filer ID of the customer, where applicable, or other unique ID if customer does not have a 499A Filer ID;

c. The Location ID from question II.B.3.a that is used to link the circuit elements to the terminating Location of the circuit (where applicable);

d. The circuit ID common to all elements purchased in common for a particular circuit;

e. The type of circuit, (DS1 sold as a UNE, DS3 sold as a UNE, PBDS, non-UNE DS1s or DS3s, etc.) and the bandwidth of the circuit;

f. The serving wire center/mileage rating point Common Language Location Identification (CLLI) of one end of the circuit (MRP1);

g. The serving wire center/mileage rating point CLLI of the other end of the circuit (MRP2);

h. The latitude of MRP1;

i. The longitude of MRP1;

j. The latitude of MRP2;

k. The longitude of MRP2;

l. End of the circuit (1=MRP1 or 2=MRP2) associated with this circuit element;

m. The billing code for the circuit element (see question II.B.6);

n. The density pricing zone for the circuit element;

o. The number of units billed for this circuit element (note that the bandwidth of the circuit must not be entered here);

p. The dollar amount of non-recurring charges billed for the first unit of this circuit element;

q. The dollar amount of non-recurring charges billed for additional units of this circuit element (if different from the amount billed for the initial unit);

r. The monthly recurring dollar charge for the first unit of the circuit element billed;

s. The monthly recurring dollar charge for additional units (if different from the amount billed for the initial unit);

t. Per unit charge for the circuit element;

u. The total monthly dollar amount billed for the circuit element;

v. The Term Commitment associated with this circuit in months;

w. Indicate whether this circuit element is associated with a circuit that contributes to a Volume Commitment;

x. Indicate whether this circuit element was purchased pursuant to a Contract-Based Tariff; and

y. The adjustment ID (or multiple adjustment IDs) linking this circuit element to the unique out-of-cycle billing adjustments in question II.B.5.a (below) if applicable.

II.B.5. For each adjustment, rebate, or true-up for billed Dedicated Services, provide the information requested below.

a. A unique ID for the billing adjustment or true-up (see question II.B.4.y above);

b. A unique ID number for the contract or Tariff from which the adjustment originates;

c. The beginning date of the time period covered by the adjustment or true-up;

d. The ending date of the time period covered by the adjustment or true-up;

e. The scope of the billing adjustment, i.e., whether the adjustment applies to a single circuit element on a single circuit, more than one circuit element on a single circuit, more than one circuit element across multiple circuits, or an overall adjustment that applies to every circuit element on every circuit purchased by the customer;

f. The dollar amount of the adjustment or true-up;

g. Whether the adjustment is associated with a Term Commitment, and if so, the length of the term specified in the contract or Tariff necessary to achieve the rebate;

h. Whether the adjustment is associated with a Volume Commitment, and if so, the number of circuits and/or dollar amount specified in the contract or Tariff necessary to achieve the rebate; and

i. If the adjustment is for some other reason, a brief description of the reason for the adjustment.

II.B.6. For each unique billing code, please provide the following information below.

a. The billing code for the circuit element;

b. The phrase that best describes the circuit element from the list. Names of some common rate elements are shown on the generalized circuit diagram below:

i. Channel mileage facility, channel mileage, interoffice channel mileage, special transport (a transmission path between two serving wire centers associated with customer designated locations; a serving wire center and an international or service area boundary point; a serving wire center and a hub, or similar type of connection);

ii. Channel mileage termination, special transport termination (the termination of channel mileage facility or similar transmission path);

iii. Channel termination, local distribution channel, special access line, customer port connection (Ethernet) (a transmission path between a customer designated location and the associated wire center);

iv. Clear channel capability (not shown) (an arrangement which allows a customer to transport, for example, 1.536 Mbps of information on a 1.544 Mbps line rate with no constraint on the quantity or sequence of one and zero bits);

v. Cross-connection (not shown) (semi-permanent switching between facilities, sometimes combined with multiplexing/demultiplexing);

vi. Multiplexing (not shown) (channelizing a facility into individual services requiring a lower capacity or bandwidth); and

vii. Class of service and/or committed information rate (not shown) (for Ethernet, the performance characteristics of the network and bandwidth available for a customer port connection).

c. If none of the possible entries describes the rate element, enter a short description.

II.B.7. List the CLLI code for each one of your wire centers that was subject to price cap regulation as of December 31, 2013, i.e., those wire centers in your incumbent territory where the Commission had not granted you pricing flexibility. For those MSAs and Non-MSAs where the Commission granted you Phase I or Phase II Pricing Flexibility as of December 31, 2013, list the CLLI codes for the wire centers associated with each MSA and Non-MSA for 2013, the name of the relevant MSA and Non-MSA, and the level of pricing flexibility granted for the MSA and Non-MSA, i.e., Phase I and/or Phase II Pricing Flexibility.

Revenues, Terms and Conditions Information

II.B.8. What were your Revenues from the sale of CBDS services in 2013? Report Revenues in total, separately by DS1, DS3, and other CBDS sales, and separately by customer category, i.e., sales to Competitive Providers and End Users.

II.B.9. What were your Revenues from the sale of PBDS services in 2013? Report Revenues in total, separately by customer category, i.e., sales to Competitive Providers and End Users. If kept in the normal course of business also report separately by bandwidth for the following categories, otherwise providing this information is optional:

a. less than or equal to 1.5 Mbps;

b. greater than 1.5, but less than or equal to 50 Mbps;

c. greater than 50, but less than or equal to 100 Mbps;

d. greater than 100, but less than or equal to 1 gigabyte per second (Gbps); and

e. greater than 1 Gbps.

II.B.10. What were your Revenues from the One Month Term Only Rate charged for DS1, DS3, and/or PBDS services in 2013? Report Revenues in total, separately by DS1, DS3, and PBDS sales as applicable, and separately by customer category, i.e., sales to Competitive Providers and End Users.

II.B.11. How many customers were purchasing DS1, DS3, and/or PBDS services pursuant to your One Month Term Only Rates as of December 31, 2013? Report customer numbers in total, separately for DS1, DS3, and PBDS services as applicable, and separately by customer category, i.e., the number of DS1, DS3, and PBDS service customers that were Competitive Providers and End Users.

II.B.12. Separately list all Tariff Plans and Contract-Based Tariffs that can be applied to the purchase of DS1, DS3 and/or PBDS services and provide the information requested below for each plan.

a. This plan is a:

☐ Tariff Plan ☐ Contract-Based Tariff (select one)

b. Plan name:

c. Tariff and Section Number(s):

d. This plan contains:

☐ Term Commitment(s) ☐ Volume Commitment(s)

☐ Non-Rate Benefit option(s) (select all that apply)

e. If the plan contains options for Non-Rate Benefits, explain the available Non-Rate Benefits.

f. This plan can be applied to the purchase of:

☐ DS1 services ☐ DS3 services ☐ PBDS ☐ Other (select all that apply)

g. In what geographic areas is this plan available, e.g., nationwide or certain MSAs?

i. Is plan available in ☐ MSAs, ☐ Non-MSAs, or ☐ both types of areas?

ii. If plan is available in Non-MSAs, indicate the states where the Non-MSA areas are located?

h. To receive a discount or Non-Rate Benefit under this plan, must the customer make a Prior Purchase-Based Commitment?

☐ Yes ☐ No

i. Do purchases of DS1 or DS3 services in areas outside of the study area(s) where you are subject to price cap regulation (e.g., purchases from an Affiliated Company that is a CLEC) count towards meeting any Volume Commitment to receive a discount or Non-Rate Benefit under this plan?

☐ Yes ☐ No ☐ N/A (no Volume Commitment)

j. Do DS1 or DS3 purchases in areas where you are subject to price cap regulation and where pricing flexibility has not been granted count towards meeting any Volume Commitment to receive a discount or Non-Rate Benefit under this plan?

☐ Yes ☐ No ☐ N/A (no Volume Commitment)

k. Do DS1 or DS3 purchases in areas where you have been granted Phase I Pricing Flexibility count towards meeting any Volume Commitment to receive a discount or Non-Rate Benefit under this plan?

☐ Yes ☐ No ☐ N/A (no Volume Commitment)

l. Do DS1 or DS3 purchases in areas where you have been granted Phase II Pricing Flexibility count towards meeting any Volume Commitment to receive a discount or Non-Rate Benefit under this plan?

☐ Yes ☐ No ☐ N/A (no Volume Commitment)

m. Do non-tariffed PBDS purchases by the customer count towards meeting any Volume Commitment to receive a discount or Non-Rate Benefit under this plan?

☐ Yes ☐ No ☐ N/A (no Volume Commitment)

n. Do tariffed PBDS purchases by the customer count towards meeting any Volume Commitment to receive a discount or Non-Rate Benefit under this plan?

☐ Yes ☐ No ☐ N/A (no Volume Commitment)

o. Do purchases by the customer for services other than DS1s, DS3s, and PBDS count towards meeting any Volume Commitment to receive a discount or Non-Rate Benefit under this plan?

☐ Yes ☐ No ☐ N/A (no Volume Commitment)

p. Is the discount or Non-Rate Benefit available under this plan conditioned on the customer limiting its purchase of UNEs, e.g., customer must keep its purchase of UNEs below a certain percentage of the customer's total spend?

☐ Yes ☐ No

q. What were your Revenues from the provision of Dedicated Service under this plan in 2013?

r. What is the business justification for any Term or Volume Commitments associated with this plan?

s. How many customers were subscribed to this plan as of December 31, 2013? Report customer numbers in total, separately for DS1, DS3, and PBDS services as applicable, and separately by customer category, i.e., the number of DS1, DS3, and/or PBDS customers that were Competitive Providers and End Users.

i. If there were five or fewer customers subscribed to this plan as of December 31, 2013, indicate the number of subscribers to this plan that were new customers (as opposed to an existing or prior customer) at the time they subscribed to this plan.

ii. For those subscribers to this plan that were existing or prior customers at the time they committed to purchasing services under this plan, explain how the purchase commitment made under this plan compares to the customer's previous purchase commitment. For example, indicate what percentage of the previous purchase commitment, the new purchase commitment equals.

t. Of those customers subscribed as of December 31, 2013, how many in 2013 failed to meet any Volume Commitment or Term Commitment required to retain a discount or Non-Rate Benefit they originally agreed to when entering into this plan?

II.B.13. Indicate whether you have any non-tariffed agreement with an End User or Competitive Provider that, directly or indirectly, provides a discount or a Non-Rate Benefit on the purchase of tariffed DS1s, DS3s, and/or PBDS, restricts the ability of the End User or Competitive Provider to obtain UNEs, or negatively affects the ability of the End User or Competitive Provider to purchase Dedicated Services. If so, identify each agreement, including the parties to the agreements, the effective date, end date, and a summary of the relevant provisions.

C. Certain Entities that provide Best Efforts Business Broadband Internet Access Services must respond to the following:

II.C.1. If you provide Best Efforts Business Broadband Internet Access Services to 15,000 or more customers or 1,500 or more business broadband customers in areas where the ILEC is subject to price cap regulation, then answer the following questions:

a. Did you submit data in connection with the State Broadband Initiative (SBI) Grant Program for 2013?

☐ Yes ☐ No

If you answered “no” to questions II.C.1.a, then you do not need to answer any further questions in this section.

b. Did the data you submitted in connection with the SBI Grant Program in 2013 accurately and completely identify the areas in which you offered Best Efforts Business Broadband Internet Access Services and exclude those areas where you did not offer such services as of December 31, 2013?

☐ Yes ☐ No

i. If yes, then provide the list of prices for those Best Efforts Business Broadband Internet Access Services that you were marketing in each census block submitted in connection with the SBI Grant Program as of December 31, 2013. If there is a price variation within your service footprint, indicate which prices are associated with which census blocks.

ii. If no, then provide a list of all the census blocks in which you offered Best Efforts Business Broadband Internet Access Services as of December 31, 2013, and a list of the prices for those Best Efforts Business Broadband Internet Access Services that you were marketing in each census block as of December 31, 2013. If there is a price variation within your service footprint, indicate which prices are associated with which census blocks.

D. All Providers must respond to the following:

II.D.1. Describe your company's short term and long-range promotional and advertising strategies and objectives for winning new—or retaining current—customers for Dedicated Services. In your description, please describe the size (e.g., companies with 500 employees or less, etc.), geographic scope (e.g., national, southeast, Chicago, etc.), and type of customers your company targets or plans to target through these strategies.

II.D.2. Identify where your company's policies are recorded on the following Dedicated Service-related processes: (a) initiation of service; (b) service Upgrades; and (c) service Disconnections. For instance, identify where your company records recurring and non-recurring charges associated with the processes listed above. If recorded in a Tariff, provide the specific Tariff section(s). If these policies are recorded in documents other than Tariffs, list those documents and state whether they are publicly available. If they are publicly available, explain how to find them. For documents that are not publicly available, state whether they are conveyed to customers orally or in writing.

E. Purchasers that are mobile wireless service providers must respond to the following:

II.E.1. How many cell sites do you have on your network?

II.E.2. Provide the information requested below for each cell site on your network as of December 31, 2013.

a. A unique ID for the cell site;

b. The actual situs address of the cell site (i.e., land where the cell site is located) if the cell site is located in or on a building;

c. The geocode for the cell site (i.e., latitude and longitude);

d. The CLLI code of the incumbent LEC wire center that serves the cell site, where applicable and if kept in the normal course of business;

e. Whether the cell site is in or on a building, is a free-standing cell site, or is on some other type of man-made structure, e.g., a water tower, billboard, etc.;

f. If the cell site is served by a CBDS, indicate the equivalent number of DS1s used;

g. If the cell site is served by a PBDS, indicate the total bandwidth of the circuit or circuits in Mbps;

h. If the cell site is served by a wireless Connection, indicate the total bandwidth of the circuit or circuits in Mbps;

i. The name of the Provider(s) that supplies your Connection to the cell site; and

j. If you self-provide a Connection to the cell site, the provisioned bandwidth of that self-provided Connection.

Expenditures Information

II.E.3. What were your expenditures, i.e., dollar volume of purchases, on Dedicated Services for 2013? Report expenditures in total, separately for CBDS and PBDS purchases, and separately for purchases from ILECs and Competitive Providers.

II.E.4. (Optional) Provide your company's expenditures, i.e., dollar volume of purchases, for DS1s, DS3s, and/or PBDS purchased from ILECs pursuant to a Tariff in 2013. For each of the following categories, report expenditures in total and separately for DS1s, DS3s and PBDS:

a. All DS1s, DS3s, and PBDS;

b. DS1s, DS3s, and PBDS purchased at One Month Term Only Rates;

c. DS1s, DS3s, and PBDS purchased under Tariff Plans;

d. DS1s, DS3s, and PBDS purchased under Contract-Based Tariffs;

e. DS1s, DS3s, and PBDS purchased under Tariff Plans that contained a Term Commitment but not a Volume Commitment;

f. DS1s, DS3s, and PBDS purchased under Tariff Plans that contained a Prior Purchase-Based Commitment;

i. Of the total (and for the separate DS1, DS3, and PBDS totals where applicable), indicate the average discount from the One Month Term Only Rate incorporated in the expenditures.

For purposes of calculating the percentages described above, an example would be a Tariff Plan that requires a purchase of 20 DS1s and 10 DS3s and generates expenditures of $2,000 for calendar-year 2013. If those same circuits were purchased at One Month Term Only Rates of $100 per DS1 and $200 per DS3, then total expenditures would instead be $4,000. Since the Tariff Plan under this scenario generated 50% of the expenditures that would be generated from One Month Term Only Rates, the discount would be 50%.

g. DS1s, DS3s, and PBDS purchased under Contract-Based Tariffs that contained a Term Commitment but not a Volume Commitment; and

h. DS1s, DS3s, and PBDS purchased under Contract-Based Tariffs that contained a Prior Purchase-Based Commitment;

i. Of the total (and for the separate DS1 and DS3 totals if available), indicate the average discount from the One Month Term Only Rate incorporated in the expenditures.

An example of how to calculate this percentage can be found at question II.E.4.f.i.

i. What percentage of your expenditures in 2013 were subject to a Term Commitment of five or more years?

II.E.5. (Optional) What were your expenditures, i.e., dollar volume of purchases, on DS1s, DS3s, and/or PBDS purchased from Competitive Providers pursuant to a Tariff in 2013? Report expenditures in total and separately for DS1s, DS3s and PBDS, as applicable, for the following categories:

a. All DS1s, DS3s, and PBDS;

b. DS1s, DS3s, and PBDS purchased at One Month Term Only Rates;

c. DS1s, DS3s, and PBDS purchased under Tariffs that contained a Term Commitment but not a Volume Commitment;

d. DS1s, DS3s, and PBDS purchased under Tariffs that contained a Prior Purchase-Based Commitment;

i. Of the total (and for the separate DS1, DS3, and PBDS totals where applicable), indicate the average discount from the One Month Term Only Rate incorporated in the expenditures.

An example of how to calculate this percentage can be found at question II.E.4.f.i

e. What percentage of your expenditures in 2013 were subject to a Term Commitment of five or more years?

II.E.6. (Optional) What were your expenditures, i.e., dollar volume of purchases, on DS1s, DS3s, and/or PBDS purchased from ILECs and Competitive Providers pursuant to an agreement (not a Tariff) in 2013? Report expenditures in total, separately for purchases from ILECs and Competitive Providers, and separately for DS1s, DS3s and PBDS, as applicable, for the following categories:

a. All DS1s, DS3s, and PBDS;

b. DS1s, DS3s, and PBDS purchased at a non-discounted rate;

c. DS1s, DS3s, and PBDS purchased under a non-tariffed agreement that contained a Term Commitment but not a Volume Commitment;

d. DS1s, DS3s, and PBDS purchased under a non-tariffed agreement that contained a Prior Purchase-Based Commitment;

i. Of the total (and for the separate DS1, DS3, and PBDS totals where applicable), indicate the average discount from the non-discounted rate incorporated in the expenditures.

An example of how to calculate this percentage can be found at question II.E.4.f.i

II.E.7. (Optional) What were your expenditures with ILECs and Competitive Providers, i.e., dollar volume of purchases, on PBDS purchased under a Tariff in 2013?

a. Separately report purchases for the following service bandwidth categories if you keep such information in the normal course of business:

i. less than or equal to 1.5 Mbps;

ii. greater than 1.5, but less than or equal to 50 Mbps;

iii. greater than 50, but less than or equal to 100 Mbps;

iv. greater than 100, but less than or equal to 1 Gbps; or

v. greater than 1 Gbps.

II.E.8. (Optional) What were your expenditures with ILECs and Competitive Providers, i.e., dollar volume of purchases, on non-tariffed PBDS in 2013?

a. Separately report purchases for the following service bandwidth categories if you keep such information in the normal course of business:

i. less than or equal to 1.5 Mbps;

ii. greater than 1.5, but less than or equal to 50 Mbps;

iii. greater than 50, but less than or equal to 100 Mbps;

iv. greater than 100, but less than or equal to 1 Gbps; or

v. greater than 1 Gbps.

Terms and Conditions Information

II.E.9. (Optional) Explain whether the terms and conditions of any Tariff or contract to which you are a party for the purchase of Dedicated Services or the policies of any of your Providers constrain your ability to:

a. Decrease your purchases from your current Provider(s);

b. Purchase services from another Provider currently operating in the geographic areas in which you purchase services;

c. Purchase non-tariffed services, such as Ethernet services, from your current Provider of tariffed DS1, DS3, and/or PBDS services or from other Providers operating in the geographic areas in which you purchase tariffed services;

d. Contract with Providers that are considering entering the geographic areas in which you purchase tariffed services;

e. Move circuits, for example, moving your DS1 and/or DS3 End-User Channel Terminations to connect to another Transport Provider; or

f. Otherwise obtain Dedicated Services or change Providers.

Relevant terms and conditions, among others, may include: (a) early termination penalties; (b) shortfall provisions; (c) overlapping/supplemental discounts plans with different termination dates; (d) requirements to include all services, including new facilities, under a Tariff Plan or Contract-Based Tariff; or (e) requiring purchases in multiple geographic areas to obtain maximum discounts. In your answer, highlight contracts where you contend that a term or condition is a particularly onerous constraint by comparison with more typical provisions in other contracts. Also, at a minimum, list: (a) the Provider and indicate whether the Provider is an ILEC or a Competitive Provider; (b) a description of the term or condition; (c) the geographic area in which the services are provided; (d) the name of the vendor providing the service; and (e) where relevant, the specific Tariff number(s) and section(s), or if the policy at issue is recorded in documents other than Tariffs, list those documents and how you obtained them.

If you allege that a term, condition, or Provider's policy negatively affects your ability to obtain Dedicated Services, state whether you have brought a complaint to the Commission, a state commission or court about this issue and the outcome. If you have not brought a complaint, explain why not.

II.E.10. (Optional) If you purchase, or purchased, Transport Service and End User Channel Terminations from the same Provider, explain your experience with changing Transport Service from one Provider to another between January 1 and December 31, 2013 while keeping your End User Channel Terminations with the original Provider. Where appropriate, identify the Provider(s) in your responses below and indicate whether they are an ILEC or a Competitive Provider.

a. How many times did you change Transport Service while keeping your End User Channel Terminations with the original Provider? An estimate of the number of circuits moved to a new Transport Provider, or the number of such changes requested, is sufficient.

b. What was the length of time, on average, it took for the original Provider to complete the process of connecting your last-mile End-user Channel Terminations to another Transport Provider? An estimate is sufficient.

c. Were you given the opportunity to negotiate the amount of time it would take to complete the process of connecting your End User Channel Terminations to another Transport Provider on a case-by-case basis? In answering this question, also describe and provide citations to the ILEC's or Competitive Provider's policies, rules or, where relevant, Tariff provisions, if known, explaining the transition process.

d. How did connecting to a new Transport Provider impact the rate you paid for the End User Channel Terminations you continued to purchase from the original Provider?

e. Did connecting to a new Transport Provider typically impact the rate you continued to pay for Transport Service from the original Provider while the change in Transport Providers remained pending? If so, how? What was the average percentage change in rates? For example, did you ever pay a One Month Term Only Rate during that time?

II.E.11. (Optional) Describe any circumstances since January 1, 2013, in which you have purchased circuits pursuant to a Tariff, solely for the purpose of meeting a Prior Purchase-Based Commitment required for a discount or Non-Rate Benefit from your Provider (i.e., you would not have purchased the circuit but for the requirement that you meet a Volume Commitment required for a discount or Non-Rate Benefit from your Provider). In your description, provide at least one example, which at a minimum, lists:

a. The name of the Provider providing the circuits at issue;

b. A description of the Prior Purchase-Based Commitment;

c. The Tariff and section number(s) of the specific terms and conditions described;

d. The number of circuits you would not have purchased but for the Prior Purchase-Based Commitment requirement to receive a discount or Non-Rate Benefit;

i. Of the circuits reported in II.E.11.d, how many did you not use at all?

e. A comparison of the dollar amount of the unnecessary circuit(s) purchased versus the dollar amount of penalties your company would have had to pay under the Prior Purchase-Based Commitment had it not purchased and/or maintained the circuit(s), and a description of how that comparison was calculated.

f. How many circuits were activated under the identified Tariff plan and not used when you initially entered into the plan? What were these unused circuits as a percent of the total circuits currently purchased under this Tariff plan? Indicate the percent of the total circuits currently purchased under this Tariff plan that exceed your Prior Purchase-Based Commitment.

g. For the Prior Purchase-Based Commitment, indicate whether you are able to buy any DS1s or DS3s from the Provider outside of the identified Tariff plan, or are you required to make all purchases from the Provider pursuant to the identified Tariff plan?

II.E.12. For each year for the past five years, state the number of times and in what geographic area(s) you have switched from purchasing End-User Channel Terminations from one Provider of Dedicated Services to another.

II.E.13. (Optional) Explain the circumstances since January 1, 2013 under which you have paid One Month Term Only Rates for DS1, DS3, and/or PBDS services and the impact, if any, it had on your business and your customers. In your response, indicate any general rules you follow, if any, concerning the maximum number of circuits and maximum amount of time you will pay One Month Term Only Rates, and your business rationale for any such rules.

II.E.14. (Optional) Separately list all Tariffs under which your company purchases DS1s, DS3s, and/or PBDS and provide the information requested below for each plan.

a. This plan is a:

☐ Tariff Plan ☐ Contract-Based Tariff (select one)

b. Plan name:

c. Provider name:

d. Tariff and Section Number(s):

e. Tariff type:

☐ Interstate ☐ Intrastate

f. This plan contains:

☐ Term Commitment(s) ☐ Volume Commitment(s)

☐ Non-Rate Benefit option(s) (select all that apply)

g. If the plan contains Non-Rate Benefits, identify the Non-Rate Benefits that were relevant to your decision to purchase services under this plan.

h. This plan can be applied to the purchase of:

☐ DS1 services ☐ DS3 services ☐ PBDS ☐ Other (select all that apply)

i. In what geographic areas do you purchase DS1s, DS3s, and/or PBDS under this plan, e.g., nationwide, certain states, or certain MSAs?

j. To receive a discount or Non-Rate Benefit under this plan, does your company make a Prior Purchase-Based Commitment?

□ Yes □ No

k. If this is an ILEC plan, do DS1, DS3, or tariffed PBDS purchases your company makes outside the study area(s) of the ILEC (e.g., purchases from an Affiliated Company of the ILEC that is providing out-of-region service as a CLEC) count towards meeting any Volume Commitment to receive a discount or Non-Rate Benefit under this plan?

□ Yes □ No □ N/A (no Volume Commitment, not an ILEC plan)

i. If you answered yes, in what geographic areas outside the study area(s) of the ILEC, do you purchase these DS1s, DS3s and/or tariffed PBDS?

ii. For each geographic area identified, state whether your company would have purchased from a different Provider, if at all, had it not been for the discounts or Non-Rate Benefits received under this plan? In your response, indicate whether the Provider that you would have purchased from has Connections serving that geographic area and the Provider's name.

l. If this is an ILEC plan, do DS1, DS3, and/or tariffed PBDS purchases your company makes from the ILEC in price cap areas where the Commission has not granted the ILEC pricing flexibility count towards meeting any Volume Commitment to receive a discount or Non-Rate Benefit under this plan?

□ Yes □ No □ N/A (no Volume Commitment, not an ILEC plan)

i. If you answered yes, then identify the price cap areas where you purchase DS1s, DS3s, and/or tariffed PBDS that count towards meeting any Volume Commitment to receive a discount or Non-Rate Benefit under this plan?

m. If this is an ILEC plan, do DS1, DS3 and/or tariffed PBDS purchases your company makes from the ILEC in areas where the Commission has granted Phase I Pricing Flexibility count towards meeting any Volume Commitment to receive a discount or Non-Rate Benefit under this plan?

□ Yes □ No □ N/A (no Volume Commitment, not an ILEC plan)

i. If you answered yes, in what geographic areas subject to pricing flexibility do you purchase DS1s, DS3s, and/or tariffed PBDS that count towards meeting any Volume Commitment to receive a discount or Non-Rate Benefit under this plan?

ii. For each geographic area identified, state whether your company would have purchased from a different Provider, if at all, had it not been for the requirements of the Tariff Plan? In your response, indicate whether the Provider that you would have purchased from has Connections serving that geographic area and the Provider's name.

n. If this is an ILEC plan, do DS1, DS3 and/or tariffed PBDS purchases your company makes from the ILEC in areas where the Commission has granted Phase II Pricing Flexibility count towards meeting any Volume Commitment to receive a discount or Non-Rate Benefit under this plan?

□ Yes □ No □ N/A (no Volume Commitment, not an ILEC plan)

i. If you answered yes, in what geographic areas subject to pricing flexibility do you purchase DS1s, DS3s, and/or tariffed PBDS that count towards meeting any Volume Commitment to receive a discount or Non-Rate Benefit under this plan?

ii. For each geographic area identified, state whether your company would have purchased from a differentProvider, if at all, had it not been for the requirements of the Tariff Plan? In your response, indicate whether the Provider that you would have purchased from has Connections serving that geographic area and the Provider's name.

o. If this is an ILEC plan, do non-tariffed PBDS purchases your company makes from this ILEC count towards meeting any Volume Commitment to receive a discount or Non-Rate Benefit under this plan?

□ Yes □ No □ N/A (no Volume Commitment, not an ILEC plan)

i. If you answered yes, in what geographic areas do you purchase non-tariffed PBDS that counts towards meeting any Volume Commitment to receive a discount or Non-Rate Benefit under this plan.

ii. For each geographic area identified, state whether your company would have purchased non-tariffed PBDS from a different Provider, if at all, had it not been for the requirements of the plan? In your response, indicate whether the Provider that you would have purchased from has Connections serving that geographic area and the Provider's name.

p. If this is an ILEC plan, do purchases you make for services other than DS1s, DS3s, and PBDS from this ILEC count towards meeting any Volume Commitment to receive a discount or Non-Rate Benefit under this plan?

□ Yes □ No □ N/A (no Volume Commitment, not an ILEC plan)

i. If you answered yes, identify the other services purchased and the geographic areas where you purchase these services that count towards meeting any Volume Commitment to receive a discount or Non-Rate Benefit under this plan.

ii. For each geographic area identified, state whether your company would have purchased those other services from a different Provider, had it not been for the requirements of the plan? In your response, indicate whether the Provider that you would have purchased from has Connections serving that geographic area and the Provider's name.

q. Is the discount or Non-Rate Benefit available under this plan conditioned on the customer limiting its purchase of UNEs, e.g., the customer must keep its purchase of UNEs below a certain percentage of the customer's total spend? If yes, then provide additional details about the condition.

II.E.15. Indicate whether you have any non-tariffed agreement with an ILEC that, directly or indirectly, provides a discount or a Non-Rate Benefit on the purchase of tariffed DS1, DS3, and/or PBDS services, restricts your ability to obtain UNEs, or negatively affects your ability to purchase Dedicated Services. If so, identify each agreement, including the parties to the agreement, the effective date, end date, and a summary of the relevant provisions.

F. Purchasers that are not mobile wireless service providers must respond to the following:

II.F.1. What is the principal nature of your business, e.g., are you a CLEC, cable system operator, fixed wireless service provider, wireless Internet service provider, interconnected VoIP service provider, etc.?

Expenditures Information

II.F.2. What were your expenditures, i.e., dollar volume of purchases, on Dedicated Services for 2013? Report expenditures in total, separately for CBDS and PBDS purchases, and separately for purchases from ILECs and Competitive Providers.

II.F.3. (Optional) Provide your company's expenditures, i.e., dollar volume of purchases, for DS1s, DS3s, and/or PBDS purchased from ILECs pursuant to a Tariff in 2013. For each of the following categories, report expenditures in total and separately for DS1s, DS3s and PBDS:

a. All DS1s, DS3s, and PBDS;

b. DS1s, DS3s, and PBDS purchased at One Month Term Only Rates;

c. DS1s, DS3s, and PBDS purchased under Tariff Plans;

d. DS1s, DS3s, and PBDS purchased under Contract-Based Tariffs;

e. DS1s, DS3s, and PBDS purchased under Tariff Plans that contained a Term Commitment but not a Volume Commitment;

f. DS1s, DS3s, and PBDS purchased under Tariff Plans that contained a Prior Purchase-Based Commitment;

i. Of the total (and for the separate DS1, DS3, and PBDS totals where applicable), indicate the average discount from the One Month Term Only Rate incorporated in the expenditures.

For purposes of calculating the percentages described above, an example would be a Tariff Plan that requires a purchase of 20 DS1s and 10 DS3s and generates expenditures of $2,000 for calendar-year 2013. If those same circuits were purchased at One Month Term Only Rates of $100 per DS1 and $200 per DS3, then total expenditures would instead be $4,000. Since the Tariff Plan under this scenario generated 50% of the expenditures that would be generated from One Month Term Only Rates, the discount would be 50%.

g. DS1s, DS3s, and PBDS purchased under Contract-Based Tariffs that contained a Term Commitment but not a Volume Commitment; and

h. DS1s, DS3s, and PBDS purchased under Contract-Based Tariffs that contained a Prior Purchase-Based Commitment;

i. Of the total (and for the separate DS1 and DS3 totals if available), indicate the average discount from the One Month Term Only Rate incorporated in the expenditures.

An example of how to calculate this percentage can be found at question II.F.3.f.i.

i. What percentage of your expenditures in 2013 were subject to a Term Commitment of five or more years?

II.F.4. (Optional) What were your expenditures, i.e., dollar volume of purchases, on DS1s, DS3s, and/or PBDS purchased from Competitive Providers pursuant to a Tariff in 2013? Report expenditures in total and separately for DS1s, DS3s and PBDS, as applicable, for the following categories:

a. All DS1s, DS3s, and PBDS;

b. DS1s, DS3s, and PBDS purchased at One Month Term Only Rates;

c. DS1s, DS3s, and PBDS purchased under Tariffs that contained a Term Commitment but not a Volume Commitment;

d. DS1s, DS3s, and PBDS purchased under Tariffs that contained a Prior Purchase-Based Commitment;

i. Of the total (and for the separate DS1, DS3, and PBDS totals where applicable), indicate the average discount from the One Month Term Only Rate incorporated in the expenditures.

An example of how to calculate this percentage can be found at question II.F.3.f.i

e. What percentage of your expenditures in 2013 were subject to a Term Commitment of five or more years?

II.F.5. (Optional) What were your expenditures, i.e., dollar volume of purchases, on DS1s, DS3s, and/or PBDS purchased from ILECs and Competitive Providers pursuant to an agreement (not a Tariff) in 2013? Report expenditures in total, separately for purchases from ILECs and Competitive Providers, and separately for DS1s, DS3s and PBDS, as applicable, for the following categories:

a. All DS1s, DS3s, and PBDS;

b. DS1s, DS3s, and PBDS purchased at a non-discounted rate;

c. DS1s, DS3s, and PBDS purchased under a non-tariffed agreement that contained a Term Commitment but not a Volume Commitment;

d. DS1s, DS3s, and PBDS purchased under a non-tariffed agreement that contained a Prior Purchase-Based Commitment;

i. Of the total (and for the separate DS1, DS3, and PBDS totals where applicable), indicate the average discount from the non-discounted rate incorporated in the expenditures.

An example of how to calculate this percentage can be found at question II.F.3.f.i

II.F.6. (Optional) What were your expenditures with ILECs and Competitive Providers, i.e., dollar volume of purchases, on PBDS purchased under a Tariff in 2013?

a. Separately report purchases for the following service bandwidth categories if you keep such information in the normal course of business:

i. less than or equal to 1.5 Mbps;

ii. greater than 1.5, but less than or equal to 50 Mbps;

iii. greater than 50, but less than or equal to 100 Mbps;

iv. greater than 100, but less than or equal to 1 Gbps; or

v. greater than 1 Gbps.

II.F.7. (Optional) What were your expenditures with ILECs and Competitive Providers, i.e., dollar volume of purchases, on non-tariffed PBDS in 2013?

a. Separately report purchases for the following service bandwidth categories if you keep such information in the normal course of business:

i. less than or equal to 1.5 Mbps;

ii. greater than 1.5, but less than or equal to 50 Mbps;

iii. greater than 50, but less than or equal to 100 Mbps;

iv. greater than 100, but less than or equal to 1 Gbps; or

v. greater than 1 Gbps.

Terms and Conditions Information

II.F.8. (Optional) Explain whether the terms and conditions of any Tariff or contract to which you are a party for the purchase of Dedicated Services or the policies of any of your Providers constrain your ability to:

a. Decrease your purchases from your current Provider(s);

b. Purchase services from another Provider currently operating in the geographic areas in which you purchase services;

c. Purchase non-tariffed services, such as Ethernet services, from your current Provider of tariffed DS1, DS3, and/or PBDS services or from other Providers operating in the geographic areas in which you purchase tariffed services;

d. Contract with Providers that are considering entering the geographic areas in which you purchase tariffed services;

e. Move circuits, for example, moving your DS1 and/or DS3 End-User Channel Terminations to connect to another Transport Provider; or

f. Otherwise obtain Dedicated Services or change Providers.

Relevant terms and conditions, among others, may include: (a) early termination penalties; (b) shortfall provisions; (c) overlapping/supplemental discounts plans with different termination dates; (d) requirements to include all services, including new facilities, under a Tariff Plan or Contract-Based Tariff; or (e) requiring purchases in multiple geographic areas to obtain maximum discounts.

In your answer, highlight contracts where you contend that a term or condition is a particularly onerous constraint by comparison with more typical provisions in other contracts. Also, at a minimum, list: (a) the Provider and indicate whether the Provider is an ILEC or a Competitive Provider; (b) a description of the term or condition; (c) the geographic area in which the services are provided; (d) the name of the vendor providing the service; and (e) where relevant, the specific Tariff number(s) and section(s), or if the policy at issue is recorded in documents other than Tariffs, list those documents and how you obtained them.

If you allege that a term, condition, or Provider's policy negatively affects your ability to obtain Dedicated Services, state whether you have brought a complaint to the Commission, a state commission or court about this issue and the outcome. If you have not brought a complaint, explain why not.

II.F.9. (Optional) If you purchase, or purchased, Transport Service and End User Channel Terminations from the same Provider, explain your experience with changing Transport Service from one Provider to another between January 1 and December 31, 2013 while keeping your End User Channel Terminations with the original Provider. Where appropriate, identify the Provider(s) in your responses below and indicate whether they are an ILEC or a Competitive Provider.

a. How many times did you change Transport Service while keeping your End User Channel Terminations with the original Provider? An estimate of the number of circuits moved to a new Transport Provider, or the number of such changes requested, is sufficient.

b. What was the length of time, on average, it took for the original Provider to complete the process of connecting your last-mile End-user Channel Terminations to another Transport Provider? An estimate is sufficient.

c. Were you given the opportunity to negotiate the amount of time it would take to complete the process of connecting your End User Channel Terminations to another Transport Provider on a case-by-case basis? In answering this question, also describe and provide citations to the ILEC's or Competitive Provider's policies, rules or, where relevant, Tariff provisions, if known, explaining the transition process.

d. How did connecting to a new Transport Provider impact the rate you paid for the End User Channel Terminations you continued to purchase from the original Provider?

e. Did connecting to a new Transport Provider typically impact the rate you continued to pay for Transport Service from the original Provider while the change in Transport Providers remained pending? If so, how? What was the average percentage change in rates? For example, did you ever pay a One Month Term Only Rate during that time?

II.F.10. (Optional) Describe any circumstances since January 1, 2013, in which you have purchased circuits pursuant to a Tariff, solely for the purpose of meeting a Prior Purchase-Based Commitment required for a discount or Non-Rate Benefit from your Provider (i.e., you would not have purchased the circuit but for the requirement that you meet a Volume Commitment required for a discount or Non-Rate Benefit from your Provider). In your description, provide at least one example, which at a minimum, lists:

a. The name of the Provider providing the circuits at issue;

b. A description of the Prior Purchase-Based Commitment;

c. The Tariff and section number(s) of the specific terms and conditions described;

d. The number of circuits you would not have purchased but for the Prior Purchase-Based Commitment requirement to receive a discount or Non-Rate Benefit;

i. Of the circuits reported in II.F.10.d, how many did you not use at all?

e. A comparison of the dollar amount of the unnecessary circuit(s) purchased versus the dollar amount of penalties your company would have had to pay under the Prior Purchase-Based Commitment had it not purchased and/or maintained the circuit(s), and a description of how that comparison was calculated.

f. How many circuits were activated under the identified Tariff plan and not used when you initially entered into the plan? What were these unused circuits as a percent of the total circuits currently purchased under this Tariff plan? Indicate the percent of the total circuits currently purchased under this Tariff plan that exceed your Prior Purchase-Based Commitment.

g. For the Prior Purchase-Based Commitment, indicate whether you are able to buy any DS1s or DS3s from the Provider outside of the identified Tariff plan, or are you required to make all purchases from the Provider pursuant to the identified Tariff plan?

II.F.11. For each year for the past five years, state the number of times and in what geographic area(s) you have switched from purchasing End-User Channel Terminations from one Provider of Dedicated Services to another.

II.F.12. (Optional) Explain the circumstances since January 1, 2013 under which you have paid One Month Term Only Rates for DS1, DS3, and/or PBDS services and the impact, if any, it had on your business and your customers. In your response, indicate any general rules you follow, if any, concerning the maximum number of circuits and maximum amount of time you will pay One Month Term Only Rates, and your business rationale for any such rules.

II.F.13. (Optional) Separately list all Tariffs under which your company purchases DS1s, DS3s, and/or PBDS and provide the information requested below for each plan.

a. This plan is a:

□ Tariff Plan □ Contract-Based Tariff (select one)

b. Plan name:

c. Provider name:

d. Tariff and Section Number(s):

e. Tariff type:

□ Interstate □ Intrastate

f. This plan contains:

□ Term Commitment(s) □ Volume Commitment(s)

□ Non-Rate Benefit option(s) (select all that apply)

g. If the plan contains Non-Rate Benefits, identify the Non-Rate Benefits that were relevant to your decision to purchase services under this plan.

h. This plan can be applied to the purchase of:

□ DS1 services □ DS3 services □ PBDS □ Other (select all that apply)

i. In what geographic areas do you purchase DS1s, DS3s, and/or PBDS under this plan, e.g., nationwide, certain states, or certain MSAs?

j. To receive a discount or Non-Rate Benefit under this plan, does your company make a Prior Purchase-Based Commitment?

☐ Yes ☐ No

k. If this is an ILEC plan, do DS1, DS3 or tariffed PBDS purchases your company makes outside the study area(s) of the ILEC (e.g., purchases from an Affiliated Company of the ILEC that is providing out-of-region service as a CLEC) count towards meeting any Volume Commitment to receive a discount or Non-Rate Benefit under this plan?

☐ Yes ☐ No ☐ N/A (no Volume Commitment, not an ILEC plan)

i. If you answered yes, in what geographic areas outside the study area(s) of the ILEC, do you purchase these DS1s, DS3s, and/or tariffed PBDS?

ii. For each geographic area identified, state whether your company would have purchased from a different Provider, if at all, had it not been for the discounts or Non-Rate Benefits received under this plan? In your response, indicate whether the Provider that you would have purchased from has Connections serving that geographic area and the Provider's name.

l. If this is an ILEC plan, do DS1, DS3, and/or tariffed PBDS purchases your company makes from the ILEC in price cap areas where the Commission has not granted the ILEC pricing flexibility count towards meeting any Volume Commitment to receive a discount or Non-Rate Benefit under this plan?

☐ Yes ☐ No ☐ N/A (no Volume Commitment, not an ILEC plan)

i. If you answered yes, then identify the price cap areas where you purchase DS1s, DS3s, and/or tariffed PBDS that count towards meeting any Volume Commitment to receive a discount or Non-Rate Benefit under this plan?

m. If this is an ILEC plan, do DS1, DS3, and/or tariffed PBDS purchases your company makes from the ILEC in areas where the Commission has granted Phase I Pricing Flexibility count towards meeting any Volume Commitment to receive a discount or Non-Rate Benefit under this plan?

☐ Yes ☐ No ☐ N/A (no Volume Commitment, not an ILEC plan)

i. If you answered yes, in what geographic areas subject to pricing flexibility do you purchase DS1s, DS3s, and/or tariffed PBDS that count towards meeting any Volume Commitment to receive a discount or Non-Rate Benefit under this plan?

ii. For each geographic area identified, state whether your company would have purchased from a different Provider, if at all, had it not been for the requirements of the Tariff Plan? In your response, indicate whether the Provider that you would have purchased from has Connections serving that geographic area and the Provider's name.

n. If this is an ILEC plan, do DS1, DS3, and/or tariffed PBDS purchases your company makes from the ILEC in areas where the Commission has granted Phase II Pricing Flexibility count towards meeting any Volume Commitment to receive a discount or Non-Rate Benefit under this plan?

☐ Yes ☐ No ☐ N/A (no Volume Commitment, not an ILEC plan)

i. If you answered yes, in what geographic areas subject to pricing flexibility do you purchase DS1s, DS3s, and/or tariffed PBDS that count towards meeting any Volume Commitment to receive a discount or Non-Rate Benefit under this plan?

ii. For each geographic area identified, state whether your company would have purchased from a different Provider, if at all, had it not been for the requirements of the Tariff Plan? In your response, indicate whether the Provider that you would have purchased from has Connections serving that geographic area and the Provider's name.

o. If this is an ILEC plan, do non-tariffed PBDS purchases your company makes from this ILEC count towards meeting any Volume Commitment to receive a discount or Non-Rate Benefit under this plan?

☐ Yes ☐ No ☐ N/A (no Volume Commitment, not an ILEC plan)

i. If you answered yes, in what geographic areas do you purchase non-tariffed PBDS that counts towards meeting any Volume Commitment to receive a discount or Non-Rate Benefit under this plan.

ii. For each geographic area identified, state whether your company would have purchased non-tariffed PBDS from a different Provider, if at all, had it not been for the requirements of the plan? In your response, indicate whether the Provider that you would have purchased from has Connections serving that geographic area and the Provider's name.

p. If this is an ILEC plan, do purchases you make for services other than DS1s, DS3s, and PBDS from this ILEC count towards meeting any Volume Commitment to receive a discount or Non-Rate Benefit under this plan?

☐ Yes ☐ No ☐ N/A (no Volume Commitment, not an ILEC plan)

i. If you answered yes, identify the other services purchased and the geographic areas where you purchase these services that count towards meeting any Volume Commitment to receive a discount or Non-Rate Benefit under this plan.

ii. For each geographic area identified, state whether your company would have purchased those other services from a different Provider, had it not been for the requirements of the plan? In your response, indicate whether the Provider that you would have purchased from has Connections serving that geographic area and the Provider's name.

q. Is the discount or Non-Rate Benefit available under this plan conditioned on the customer limiting its purchase of UNEs, e.g., the customer must keep its purchase of UNEs below a certain percentage of the customer's total spend? If yes, then provide additional details about the condition.

II.F.14. Indicate whether you have any non-tariffed agreement with an ILEC that, directly or indirectly, provides a discount or a Non-Rate Benefit on the purchase of tariffed DS1, DS3, and/or PBDS services, restricts your ability to obtain UNEs, or negatively affects your ability to purchase Dedicated Services. If so, identify each agreement, including the parties to the agreement, the effective date, end date, and a summary of the relevant provisions.

G. Non-Providers, Non-Purchasers, and other entities not covered by the scope of this inquiry but that were instructed to respond to this data collection must respond to the following:

II.G.1. If you must respond to this data collection because you were required to file the FCC Form 477 to report the provision of “broadband connections to end user locations” for Year 2013 but are not (a) a Provider or a Purchaser as defined in this data collection or (b) an entity that provides Best Efforts Business Broadband Internet Access Services to15,000 or more customers or 1,500 or more business broadband customers in areas where the ILEC is subject to price cap regulation, then indicate as such below and complete the certification accompanying this data collection.

☐ I am not a Provider.

☐ I am not a Purchaser.

☐ I do not provide Best Efforts Business Broadband Internet Access Services to 15,000 or more customers or 1,500 or more business broadband customers in areas where the ILEC is subject to price cap regulation.

(select all that apply)

CERTIFICATION

I have examined the response and certify that, to the best of my knowledge, all statements of fact, data, and information contained therein are true and correct.

Signature:

Printed Name:

Title:

Date:

Respondents are reminded that failure to comply with these data reporting requirements may subject them to monetary forfeitures of up to $160,000 for each violation or each day of a continuing violation, up to a maximum of $1,575,000 for any single act or failure to act that is a continuing violation. False statements or misrepresentations to the Commission may be punishable by fine or imprisonment under Title 18 of the U.S. Code.

APPENDIX B

SUPPLEMENTAL FINAL REGULATORY FLEXIBILITY ANALYSIS

As required by the Regulatory Flexibility Act of 1980 (RFA), as amended, Initial Regulatory Flexibility analyses were incorporated in the Special Access NPRM for this proceeding, and the Commission included a Final Regulatory Flexibility Analysis (FRFA) with the Data Collection Order adopting the data collection requirement. This Supplemental Final Regulatory Flexibility Analysis supplements the FRFA to reflect the actions taken in this Order on Reconsideration.

A. Need for, and Objectives of, the Order

In 2005, the Commission initiated this proceeding as a broad examination of what regulatory framework to apply to price cap local exchange carriers' (LECs) interstate special access services following the expiration of the CALLS plan, including whether to maintain or modify the Commission's pricing flexibility rules. Moreover, the Special Access NPRM sought to examine whether the available marketplace data supported maintaining, modifying, or repealing these rules. In the Data Collection Order, the Commission continued the process of reviewing its special access rules to ensure that they reflect the state of competition today and promote competition, investment, and access to dedicated communications services that businesses across the country rely on every day to deliver their products and services to American consumers. Specifically, the Commission initiated a comprehensive data collection and sought comment on a proposal to use the data to evaluate competition in the market for special access services.

In this Order on Reconsideration, we further amend the data collection adopted by the Commission in the Data Collection Order. The collection requires providers and purchasers of special access service and certain other services—including best efforts business broadband Internet access services—as well as entities that provide certain other services, to submit data, information and documents to allow the Commission to conduct a comprehensive evaluation of competition in the special access market. The data, information, and documents required fall into five general categories: market structure; pricing; demand (i.e., observed sales and purchases), terms and conditions; and competition and pricing decisions. In this Order on Reconsideration, we amend the collection to collect data from a single year (calendar year 2013) instead of from two years (calendar years 2010 and 2012). This will result in a significant reduction in the amount of data reported by respondents. In addition, we amended the definition of purchaser to exclude entities spending less than $5 million on special access services in 2013 from the scope of the collection.

B. Summary of Significant Issues Raised by Public Comments in Response to the IRFA

No new comments were received in response to the IRFA that were not already addressed in the FRFA included with the Data Collection Order. In response to the petitions requesting reconsideration of the Data Collection Implementation Order, MTPCS, LLC d/b/a Cellular One (MTPCS) filed comments stating that the Wireline Competition Bureau (Bureau) failed to “effectively minimize” the reporting burden associated with the data collection on small entities as required by the RFA. According to MTPCS, the Commission has greatly underestimated the response time needed for answering several of the questions directed at purchasers.

C. Description and Estimate of the Number of Small Entities to Which the Proposed Rules Will Apply

The actions taken in the Order on Reconsideration do not require any changes to this section of the FRFA included with the Data Collection Order.

D. Description of Projected Reporting, Recordkeeping, and Other Compliance Requirements

The data, information and document collection required by the Data Collection Order, which is further amended by this Order on Reconsideration, falls into five general categories: market structure, pricing, demand (i.e., observed sales and purchases), terms and conditions, and competition and pricing decisions.

Market structure data consists of, among other things, the situs and type of facilities owned by a provider (or leased subject to an indefeasible right of use) capable of providing special access, by sold and potential capacity and ownership, and the proximity of such facilities to sources of demand. We also require incumbent LEC providers to submit data concerning the number, nature, and situs of UNEs sold. In addition, we also require additional market structure data from competitive providers, such as detailed information related to non-price factors that may impact where special access providers build facilities or expand their network via UNEs and the history of their facility deployments in a sample of locations they serve.

Pricing data includes the quantities sold and prices charged for special access services, by circuit element, and information regarding the regulatory environment for incumbent LECs.

Demand data includes, among other things, data that identify the bandwidth of the special access services sold or purchased, the locations being served, and other material facts, such as where those purchases occur (e.g., buildings, cell towers) and the nature of the purchaser (e.g., provider or end user).

Terms and conditions data and information include, but are not limited to, information regarding contracts or generally available plans for special access services that offer discounts, circuit portability, or other competitively relevant benefits, and whether the terms and conditions associated with those offerings may inhibit a buyer's ability to switch to other providers, which in turn may inhibit facilities-based entry into special access markets.

Competition and pricing data, information and documents include, but are not limited to, those materials related to requests for proposals, advertising and marketing materials, and in very limited circumstances, pricing decision documents.

Best efforts business broadband Internet access services include, but are not limited to, data showing where a provider or entity provides such services, as well as price lists.

Questions related to terms and conditions, competition and pricing decisions will span a variety of timeframes specific to the issue addressed. The majority of the market structure, pricing and demand data will be collected for a two-year period. This period of time allows the analysis to control for factors that may vary substantially across geographic areas, but not within a given geographic area.

The actions taken in this Order on Reconsideration do not alter the general categories of information collected. The Bureau did amend the collection, however, to change the temporal scope of collection. Instead of asking questions for 2010 and 2012, the Commission will seek responses for a single year, 2013.

E. Steps Taken to Minimize Significant Economic Impact on Small Entities, and Significant Alternatives Considered

As discussed in the FRFA, small business concerns were considered when determining the nature of the data to be collected, and identified data, information, and document requirements were modified to reduce burdens on small businesses where possible. The Bureau previously issued two voluntary data requests in this proceeding. These voluntary requests allowed each potential respondent to make its own determination concerning participation. The responses to the voluntary data requests provided the Commission the means and opportunity to assess which data elements are most important to its ability to assess the special access market, and to eliminate or revise those questions that otherwise yield less valuable information. The voluntary data requests also allowed the Commission to carefully assess the need to obtain data from all providers and purchasers of special access services and certain other services—including small businesses—to conduct a comprehensive analysis of the special access market.

In order to conduct a comprehensive analysis of the special access market, the Commission will collect data from all providers and purchasers of special access services as well as some entities that provide best efforts business broadband Internet access services. The Commission notes concerns regarding the burden that this data collection will impose on small companies, and is mindful of the importance of seeking to reduce information collection burdens for small business concerns, and in particular those “with fewer than 25 employees.” Competition in the provision of special access, however, appears to occur at a very granular level—perhaps as low as the building/tower. Accordingly, the Commission finds it necessary to obtain data from special access providers and purchasers of all sizes.

The Bureau has further evaluated and modified the collection, however, to alleviate the impact of the collection on small entities. On September 18, 2013, the Bureau released an order clarifying the scope of the collection; providing instructions on how to respond to the data collection questions; and providing a list of all modifications and amendments to the data collection questions and definitions. These actions were based on feedback received from potential respondents, including the PRA comments filed with the Commission during the 60-day public comment period, and the Bureau's further internal review. These actions included a clarification on purchasers covered by the scope of the collection to exclude several categories of Commission license, authorization and registration holders.

In addition, in this Order on Reconsideration, the Bureau further amended the collection to reflect the conditional approval received from the Office of Management and Budget pursuant to the Paperwork Reduction Act of 1995. The amendments include revising the definition of purchasers to exclude those entities spending less than $5 million on special access services in 2013 in price cap areas and making many of the questions directed at purchasers optional. These amendments will significantly reduce the number of small entities covered by the scope of the collection and the reporting burden on those remaining small entities that still must respond, and thus addresses the concerns raised by MTPCS.

Finally, the Commission considered additional alternatives to alleviate burden, e.g., collecting data from a sample of geographic areas. The Commission ultimately decided, however, that these alternatives were either impracticable or would undermine the Commission's efforts to conduct a comprehensive analysis of the special access market.

F. Report to Congress

The Commission will send a copy of this Order on Reconsideration, including this Supplemental FRFA, in a report to be sent to Congress and the Government Accountability Office pursuant to the Small Business Regulatory Enforcement Fairness Act of 1996. In addition, the Commission will send a copy of this Order on Reconsideration, including the Supplemental FRFA, to the Chief Counsel for Advocacy of the Small Business Administration. A copy of this Order on Reconsideration and Supplemental FRFA (or summaries thereof) will also be published in the Federal Register.

ORDERING CLAUSES

Accordingly, IT IS ORDERED pursuant to sections 1, 4(i), 4(j), 5, 201-205, 211, 215, 218, 219, 303(r), 332, 403, and 503 of the Communications Act of 1934, as amended (the Act), 47 U.S.C. 151, 154(i), 154(j), 155, 201, 202, 203, 204, 205, 211, 215, 218, 219, 303(r), 332, 403, 503, and section 706 of the Telecommunications Act of 1996, 47 U.S.C. 1302, sections 0.91, 0.291, and 1.429 of the Commission's rules, 47 CFR 0.91, 0.291, 1.429 and the authority delegated to the Bureau in the Data Collection Order, that this Order on Reconsideration is ADOPTED effective 30 days after publication of the text or summary thereof in the Federal Register.

IT IS FURTHER ORDERED that the deadline for responding to the data collection is December 15, 2014.

IT IS FURTHER ORDERED that, pursuant to the authority contained in section 405 of the Act, 47 U.S.C. 405, and section 1.429 of the Commission's rules, 47 CFR 1.429, the Petition for Blanket Exemption or, in the Alternative, Petition for Reconsideration filed by the Small Purchasers Coalition on December 9, 2013, IS GRANTED IN PART AND DENIED IN PART to the extent described herein.

IT IS FURTHER ORDERED that, pursuant to the authority contained in section 405 of the Act, 47 U.S.C. 405, and section 1.429 of the Commission's rules, 47 CFR 1.429, the Petition for Reconsideration filed by the Blooston Private Microwave Licensees on December 6, 2013, IS GRNTED IN PART AND DENIED IN PART to the extent described herein.

IT IS FURTHER ORDERED that the Bureau SHALL SEND a copy of this Order on Reconsideration, including the Supplemental Final Regulatory Flexibility Analysis, to the Chief Counsel for Advocacy of the Small Business Administration.

Federal Communications Commission.
Pamela Arluk,
Acting Chief, Pricing Policy Division, Wireline Competition Bureau.

[FR Doc. 2014-22868 Filed 9-25-14; 8:45 am]

BILLING CODE 6712-01-P